DEPARTMENT OF AGRICULTURE

Agricultural Marketing Service

[Doc No. AMS-SC-19-0079; SC19-33/35-1]

Notice of Request for Renewal of a Recordkeeping Burden; Correction

AGENCY: Agricultural Marketing Service, USDA.

ACTION: Correction.

SUMMARY: In accordance with the Paperwork Reduction Act of 1995, the Agricultural Marketing Service (AMS) is issuing a correction to the notice published in the Federal Register on February 20, 2019 (Vol. 84, No. 34, pages 5046-5047). The previously published notice, which informed the public of AMS's request to the Office of Management and Budget (OMB) for renewal of a recordkeeping burden for the information collection for the Export Fruit Acts covering exports of apples and grapes, referenced an incorrect set of burden calculations. Current burden calculations are included in the Supplementary Information section below.

Additional Information: Contact Andrew Hatch, Chief, Program Services Branch, Marketing Order and Agreement Division, Specialty Crops Program, AMS, USDA, 1400 Independence Avenue SW, Stop 0237, Room 1406-S, Washington, DC 20250-0237; Telephone (202) 720-6862 or Email: andrew.hatch@usda.gov.

Small businesses may request information on complying with the regulation and responding to this notice by contacting Richard Lower, Marketing Order and Agreement Division, Specialty Crops Program, AMS, USDA, 1400 Independence Avenue SW, Stop 0237, Washington, DC 20250-0237; Telephone: (202) 720-2491, Fax: (202) 720-8938, or Email: richard.lower@usda.gov.

SUPPLEMENTARY INFORMATION: Title: Export Fruit Regulations—Export Apple Act (7 CFR part 33) and the Export Grape and Plum Act (7 CFR part 35).

OMB Number: 0581-0143.

Expiration Date of Approval: September 30, 2019.

Type of Request: Request for Renewal of a Recordkeeping Burden.

Estimate of Burden: Public recordkeeping burden for this collection of information is estimated to average 0.058 hours per response.

Respondents (Recordkeepers): Apple and grape export shippers and carriers.

Estimated Number of Respondents: 200 (150 shippers and carriers of exported apples and 50 shippers and carriers of exported grapes).

Estimated Number of Responses: 160,350.

Estimated Number of Responses per Respondents: 801.75.

Estimated Total Annual Burden on Respondents: 9,311.00 hours.

Dated: September 19, 2019.
Bruce Summers,
Administrator, Agricultural Marketing Service.

[FR Doc. 2019-20748 Filed 9-24-19; 8:45 am]

BILLING CODE 3410-02-P